ENVIRONMENTAL PROTECTION AGENCY

[FRL-7590-4]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1052.07; NSPS Subpart D, Standards of Performance for Fossil-Fuel-Fired Steam Generating Units; was approved 11/06/2003; in 40 CFR part 60, subpart D; OMB Number 2060-0026; expires 11/30/2006.

EPA ICR No. 1696.04; Fuels and Fuel Additives—Health—Effects Research Protocols; was approved 11/06/2003; in 40 CFR part 79, subpart F; OMB Number 2060-0297; expires 11/30/2006.

EPA ICR No. 1893.03; Federal Emission Guidelines for Existing Municipal Solid Waste Landfills (Small); was approved 11/06/2003; in 40 CFR part 62, subpart GGG; OMB Number 2060-0430; expires 11/30/2006.

EPA ICR No. 1772.03; Activities Associated with EPA's Energy Star Buildings Program in the Commercial and Industrial Sectors; was approved 11/06/2003; OMB Number 2060-0347; expires 11/30/2006.

EPA ICR No. 1088.10; NSPS for Industrial-Commercial-Institutional Steam Generating Units; was approved 11/06/2003; in 40 CFR part 60, subpart Db; OMB Number 2060-0072; expires 11/30/2006.

EPA ICR No. 1061.09; NSPS for the Phosphate Fertilizer Industry; was approved 11/05/2003; in 40 CFR part 60, subpart T, U, V, W, and X; OMB Number 2060-0037; expires 11/30/2006.

EPA ICR No. 1084.07; NSPS for Nonmetallic Mineral Processing; was approved 11/05/2003; in 40 CFR part 60, subpart OOO; OMB Number 2060-0050; expires 11/30/2006.

EPA ICR No. 1128.07; NSPS for Secondary Lead Smelters; was approved 11/05/2003; in 40 CFR part 60, subpart L; OMB Number 2060-0080; expires 11/30/2006.

EPA ICR No. 1093.07; NSPS for the Surface Coating of Plastic Parts for Business Machines (Renewal); was approved 11/05/2003; in 40 CFR part 60, subpart TTT; OMB Number 2060-0162; expires 11/30/2006.

EPA ICR No. 1060.12; NSPS for Steel Plants: Electric Arc Furnaces and Argon-Oxygen Decarburization Vessels (Renewal); was approved 11/06/2003; in 40 CFR part 60, subparts AA and AAa, OMB Number 2060-0038; expires 11/30/2006.

EPA ICR No. 1665.06; Confidentiality Rules; was approved 11/03/2003; in 40 CFR part 2, subpart B; OMB Number 2020-0003; expires 11/30/2006.

EPA ICR No. 1415.05; NESHAP for Perchlorethylene Dry Cleaning Facilities; was approved 10/28/2003; in 40 CFR part 63, subpart M, OMB Number 2060-0234; expires 10/31/2006.

EPA ICR No. 0976.11; The 2003 Hazardous Waste Report; was approved 10/26/2003; in 40 CFR 262.41,264.75, 265.75; OMB Number 2050-0024; expires 10/31/2005.

Dated: November 17, 2003.
Doreen Sterling,
Acting Director, Collection Strategies Division.

[FR Doc. 03-29318 Filed 11-21-03; 8:45 am]

BILLING CODE 6560-50-P